DEPARTMENT OF AGRICULTURE

Natural Resources Conservation Service

Changes to Section IV of the Field Office Technical Guides for NRCS in California

AGENCY: Natural Resources Conservation Service, USDA.

ACTION: Notice of change.

SUMMARY: Pursuant to section 343 of Subtitle E of the Federal Agriculture Improvement and Reform Act of 1996 (FAIRA) that requires the Secretary of Agriculture to provide public notice and comment under section 553 of Title 5, United States Code, with regard to any future revisions to those provisions of the Natural Resources Conservation Service (NRCS) State technical guides that are used to carry out Subtitles A, B, and C of Title XII of the Food Security Act of 1985 (16 U.S.C. 3801 et seq.), the Natural Resources Conservation Service, United States Department of Agriculture, gives notice of revisions to all conservation practices in section IV of State technical guides in California. The distribution of these revisions and an updated index of conservation practice standards and specifications was made to all California NRCS offices via California Technical Guide Notice 43 dated September 29, 2000.

These revisions to conservation practices in Section IV of State technical guides are subject to these provisions since one or more are used, or could be used, as a part of a conservation management system to comply with the Highly Erodible Land Conservation or Wetland Conservation requirements of the Food Security Act of 1985.

FOR FURTHER INFORMATION CONTACT: Diane B. Holcomb, State Resource Conservationist, USDA-NRCS, 430 G Street, Davis, CA 95616-4164. Telephone Number (530)-792-5667, FAX #(530)-792-5793, or email diane.holcomb@ca.usda.gov.

A copy of the new index and any of the revised items can be obtained on the Web at http://www.ca.nrcs.usda.gov/rts/fotgintro.htm, or from Ms. Holcomb, either in paper copy format, or electronic copy on compact disk (CD). These items are also available at each of the NRCS field offices in California.

Comments can be sent at anytime to Diane B. Holcomb or to the District Conservationist at any NRCS field office in California. Comments will be reviewed and considered by NRCS technical discipline specialists and the California State Technical Guide Committee, which meets approximately four times a year at the NRCS State Office in Davis, California.

SUPPLEMENTARY INFORMATION: In California, “State technical guides” refers to the State Office Technical Guide maintained by the NRCS State Resource Conservationist in Davis, California, to the Area Office Technical Guide maintained at each NRCS Area Office in Red Bluff, Salinas, Fresno, and Riverside, California, and to the Field Office Technical Guide maintained at each NRCS Field Office in California.

Practice standards establish the minimum level of acceptable quality for planning, designing, installing, operating, and maintaining conservation practices. National standards from the National Handbook of Conservation Practices form the basis for developing State supplements to the standards. Practice specification guidance are developed by each State and establish and list the terms and conditions, and how the practice standard will be made site-specific.

The last revisions to conservation practices in State technical guides in California were completed in July, 2000, and issued via California Technical Guide Notice Number 43 on September 29, 2000. The current California “Index of Conservation Practice Standards and Specifications” and practice standards and specifications are dated July 2000. All practice standards and specifications are reviewed by the State Technical Guide Committee at least once every five years from their date of issuance to determine if the standard is needed and reflects the latest acceptable technology.

The July, 2000, revisions cover all of the 221 conservation practice standards, 132 conservation practice specifications and their practice requirements sheets, 128 conservation practice material specifications, and 9 conservation practice construction specifications in California. Revisions include word changes, reformatting sections of practice standards, name changes, renumbering, additions, deletions, updates of technical requirements, changing dates, and adding some new practices.

Diane B. Holcomb,
State Resource Conservationist.

[FR Doc. 00-31734 Filed 12-13-00; 8:45 am]

BILLING CODE 3410-16-P